NUCLEAR REGULATORY COMMISSION

Sunshine Federal Register Notice

Agency Holding The Meetings: Nuclear Regulatory Commission.

DATES: Weeks of December 8, 15, 22, 29, 2008; January 5, 12, 2009.

Place: Commissioners' Conference Room, 11555 Rockville Pike, Rockville, Maryland.

Status: Public and Closed.

Week of December 8, 2008

Tuesday, December 9, 2008

9:25 a.m. Affirmation Session (Public Meeting) (Tentative)

a. Final Rule—Power Reactor Security Requirements (RIN 3150-AG63) (Tentative)

b. Entergy Nuclear Operations, Inc. (Indian Point Nuclear Generating Units 2 and 3), re Appeal of Order Striking WestCAN's Request for Hearing (July 31, 2008) (Tentative)

This meeting will be webcast live at the Web address— http://www.nrc.gov.

9:30 a.m. Briefing on Equal Employment Opportunity (EEO) and Small Business Programs (Public Meeting) (Contact: Sandy Talley, 301-415-8059).

This meeting will be webcast live at the Web address— http://www.nrc.gov.

Thursday, December 11, 2008

9:30 a.m. Briefing on Uranium Recovery—Part 1 (Public Meeting).

1:30 p.m. Briefing on Uranium Recovery—Part 2 (Public Meeting) (Contact for both parts: Dominick Orlando, 301-415-6749).

Both parts of this meeting will be webcast live at the Web address— http://www.nrc.gov.

Friday, December 12, 2008

9:30 a.m. Discussion of Management Issues (Closed—Ex. 2).

Week of December 15, 2008—Tentative

Monday, December 15, 2008

1 p.m. Discussion of Management Issues (Closed—Ex. 2).

Wednesday, December 17, 2008

2 p.m. Briefing on Threat Environment Assessment (Closed—Ex. 1).

Week of December 22, 2008—Tentative

There are no meetings scheduled for the week of December 22, 2008.

Week of December 29, 2008—Tentative

There are no meetings scheduled for the week of December 29, 2008.

Week of January 5, 2009—Tentative

There are no meetings scheduled for the week of January 5, 2009.

Week of January 12, 2009—Tentative

There are no meetings scheduled for the week of January 12, 2009.

* * * * *

* The schedule for Commission meetings is subject to change on short notice. To verify the status of meetings, call (recording)—(301) 415-1292. Contact person for more information: Michelle Schroll, (301) 415-1662.

* * * * *

The NRC Commission Meeting Schedule can be found on the Internet at: http://www.nrc.gov/about-nrc/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: December 4, 2008.
Rochelle C. Bavol,
Office of the Secretary.

[FR Doc. E8-29183 Filed 12-5-08; 11:15 am]

BILLING CODE 7590-01-P